FEDERAL ELECTION COMMISSION

Sunshine Act Meeting Notice

DATE & TIME: Thursday, March 1, 2012 at 10 a.m.

PLACE: 999 E Street NW., Washington, DC (ninth floor).

STATUS: This meeting will be open to the public.

ITEMS TO BE DISCUSSED:

Correction and Approval of the Minutes for the Meeting of February 16, 2012;

Draft Advisory Opinion 2012-04: Justice Party of Mississippi;

Draft Advisory Opinion 2012-03: ActRight;

Draft Advisory Opinion 2012-01: Stop This Insanity, Inc. Employee Leadership Fund;

Audit Division Recommendation Memorandum on Chris Dodd for President, Inc.;

Management and Administrative Matters.

Individuals who plan to attend and require special assistance, such as sign language interpretation or other reasonable accommodations, should contact Shawn Woodhead Werth, Secretary, at (202) 694-1040, at least 72 hours prior to the meeting date.

PERSON TO CONTACT FOR INFORMATION: Judith Ingram, Press Officer, Telephone: (202) 694-1220.

Shawn Woodhead Werth,
Secretary of the Commission.

[FR Doc. 2012-4715 Filed 2-23-12; 4:15 pm]

BILLING CODE 6715-01-P